DEPARTMENT OF THE INTERIOR

Geological Survey

[GX24EG32DW20300; OMB Control Number 1028-0111]

Agency Information Collection Activities; Submission to the Office of Management and Budget for Review and Approval; The National Map Corps (TNMCorps)—Volunteered Geographic Information Project

AGENCY: Geological Survey, Department of the Interior.

ACTION: Notice of information collection; request for comment.

SUMMARY: In accordance with the Paperwork Reduction Act (PRA) of 1995, the U.S. Geological Survey (USGS) is proposing to renew an information collection.

DATES: Interested persons are invited to submit comments on or before July 24, 2024.

ADDRESSES: Written comments and recommendations for the proposed information collection should be sent within 30 days of publication of this notice to www.reginfo.gov/public/do/PRAMain. Find this particular information collection by selecting “Currently under Review—Open for Public Comments” or by using the search function. Please provide a copy of your comments by mail to U.S. Geological Survey, Information Collections Officer, 12201 Sunrise Valley Drive MS 159, Reston, VA 20192; or by email to gs-info_collections@usgs.gov. Please reference OMB Control Number 1028-0111 in the subject line of your comments.

FOR FURTHER INFORMATION CONTACT: To request additional information about this Information Collection Request (ICR), contact Erin Korris by email at ekorris@usgs.gov, or by telephone at 303-202-4503. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA (44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on April 18, 2024, (89 FR 27780). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The mission of the USGS National Geospatial Program (NGP) is to organize, maintain, publish, and disseminate the geospatial baseline of the Nation's topography, natural landscape, and built environment through The National Map (TNMap), a set of basic geospatial information provided as a variety of products and services.

Through Office of Management and Budget Circular A-16, the Federal Government assigns leadership responsibilities for themes of geospatial data among Federal agencies. Based in part on this assignment, and because of the unique ability of the NGP to provide national coverage of topographic data, the primary focus of the NGP is to provide national leadership in The National Map themes of hydrography and elevation. The role of the other six layers of The National Map is generally to provide contextual or reference information to its cartographic products and services. The objective of the NGP for these layers is to maintain current coverage by obtaining the data from other organizations and suppliers with a minimum investment of resources.

TNMCorps is the name of the NGP project that encourages citizen participation in volunteer map data collection activities. TNMCorps uses crowdsourcing to produce volunteered geographic information (VGI) by georeferencing structure points and sharing this information with others on map-based internet platforms. People participating in the crowdsourcing are considered part of TNMCorps.

In general, the National Structures Dataset (NSD) has been populated with the best available national data. This data has been exposed for initial improvement by TNMCorps volunteers via the online Map Editor (the instrument). In addition, the data goes through a tiered-editing process, which includes peer review and advanced editors. At each stage the data is passed through an automatic “magic filter” to look for data issues before being submitted into the NSD. In addition, data goes through sampling for quality assurance procedures.

TNMCorps seeks to enable collaborations with other federal agencies, as well and private and public entities. Data within the NSD is available at no cost to the USGS and the public via The National Map and US Topo.

Data quality studies in 2012, 2014, and 2018 showed that the volunteers' actions were accurate and exceeded USGS quality standards. Volunteer-collected data showed an improvement in both location and attribute accuracy for existing data points. Completeness, or the extent to which all appropriate features were identified and recorded, was also improved.

Title of Collection: The National Map Corps—Volunteered Geographic Information Project.

OMB Control Number: 1028-0111.

Form Number: None.

Type of Review: Extension of a currently approved collection.

Respondents/Affected Public: general public.

Total Estimated Number of Annual Respondents: 1,000.

Total Estimated Number of Annual Responses: 100,000.

Estimated Completion Time per Response: 100,000 responses × 12 minutes on average to use the instrument = 20,000 hours. 1,000 respondents × 60 minutes on average to use the training video = 1,000 hours.

Total Estimated Number of Annual Burden Hours: 21,000.

Respondent's Obligation: Voluntary.

Frequency of Collection: Varies by volunteer; volunteers are not obligated to collect any specific amount of data.

Total Estimated Annual Nonhour Burden Cost: There are no “no-hour cost” burdens associated with this ICR.

An agency may not conduct or sponsor, nor is a person required to respond to a collection of information unless it displays a currently valid OMB control number.

The authority for this PRA (44 U.S.C. 3501 et seq.).

Leslie D. Hansmann,
Supervisory Cartographer, Core Science Systems, USGS.

[FR Doc. 2024-13815 Filed 6-21-24; 8:45 am]

BILLING CODE 4338-11-P